DEPARTMENT OF TRANSPORTATION

Federal Aviation Administration

Commercial Space Transportation Advisory Committee—Closed Session

AGENCY: Federal Aviation Administration (FAA), DOT.

ACTION: Notice of Commercial Space Transportation Advisory Committee Special Closed Session.

SUMMARY: Pursuant to Section 10(a)(2) of the Federal Advisory Committee Act (Pub. L. 92-463, 5 U.S.C. App. 2), and Title 41 of the Code of Federal Regulations, section 102-3.160, notice is hereby given of a special closed session of the Commercial Space Transportation Advisory Committee (COMSTAC). The special closed session will be an administrative session for the Committee members to review the structure of COMSTAC's public meetings and discuss if the current structure is the most desirable arrangement of activities. The meeting will take place on Thursday, February 10, 2010, at the Washington Convention Center, 801 Mount Vernon Place NW., Washington, DC 20001, from 8 a.m. until 8:45 a.m.

FOR FURTHER INFORMATION CONTACT: Susan Lender (AST-100), Office of Commercial Space Transportation (AST), 800 Independence Avenue SW., Room 325, Washington, DC 20591, telephone (202) 267-8029, e-mail susan.lender@faa.gov.

Issued in Washington, DC, January 18, 2011.
George C. Nield,
Associate Administrator for Commercial Space Transportation.

[FR Doc. 2011-1410 Filed 1-24-11; 8:45 am]

BILLING CODE 4910-13-P